DEPARTMENT OF TRANSPORTATION

Federal Aviation Administration

14 CFR Part 71

[Docket No. FAA-2003-15228; Airspace Docket No. 03-AEA-04]

Establishment of Class E Airspace; Gettysburg, PA; Correction

AGENCY: Federal Aviation Administration (FAA), DOT.

ACTION: Final rule; correction.

SUMMARY: Airspace Docket No. 03-AEA-04, published in the Federal Register on November 5, 1003 (68 FR 62515), established the description of the Class E airspace area at Gettysburg, PA. An error was discovered in the geographic coordinates for the Gettysburg Airport and Travel Center and the effective date was in error. This action corrects those errors.

DATES: The effective date of 0901 UTC, May 15, 2004, is changed to 0901 UTC, April 15, 2004.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION: Airspace Docket No. 03-AEA-04. published in the Federal Register on November 5, 2003 (68 FR 62515), established the description of the Class E airspace area at Gettysburg, PA. The final rule established Class E airspace for the Gettysburg Airport and Travel Center with an effective date of May 15, 2004. The geographic coordinates describing the designated airspace area and the effective date were published in error. The date of May 15, 2004, is not an official charting date. This action corrects the geographic coordinates and changes the effective date to April 15, 2004.

In rule FR Doc. 03-27741 published on November 5, 2003 (68 FR 62515), make the following corrections. On page 62515 in the first column, change the effective date to read “April 15, 2004.” In the third column, change the geographic coordinates by removing “(lat. 39°50′27″ N., long. 73°57′43″ W.)” and substituting “(lat. 39°50′27″ N., long. 77°16′27″ W.).”

Issued in Jamaica, New York, on December 8, 2003.
John G. McCartney,
Assistant Manager, Air Traffic Division, Eastern Region.

[FR Doc. 03-31028 Filed 12-16-03; 8:45 am]

BILLING CODE 4910-13-M